DEPARTMENT OF HEALTH AND HUMAN SERVICES

Administration for Children and Families

Proposed Information Collection Activity; Building Evidence on Employment Strategies for Low-Income Families (BEES) (New Collection)

AGENCY: Office of Planning, Research, and Evaluation; Administration for Children and Families; HHS.

ACTION: Request for public comment.

SUMMARY: The Administration for Children and Families (ACF) is proposing a data collection activity as part of the Building Evidence on Employment Strategies for Low-Income Families (BEES). The purpose of BEES is to evaluate the effectiveness of a broad range of innovative programs designed to boost employment and earnings among low-income Americans. Within this general focus area, ACF has a particular interest in programs that serve adults whose employment prospects have been affected by substance use disorder (SUD), opioid use disorder (OUD), mental health conditions, and justice involvement. ACF expects that a subset of programs to be evaluated will serve these specific target populations. To meet these objectives, this study will include impact and implementation evaluations for up to 21 sites, as well as descriptive work focused on other sites that have a focus on clients with opioid use and other substance abuse disorders. When possible, a randomized control trial research design will be used for the impact evaluations. The purpose of the current submission is to request approval for data collection needed for the BEES study.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION:

Description: The BEES impact studies call for multiple data collection points with study participants. Data will be collected from study participants through the following methods: (1) Baseline information form completed by study participants at study entry, (2) study participants will also be asked to periodically update their contact information, (3) interview administered to participants in non-behavioral health sites 6 months after study entry to learn about program participation, (4) interview administered to participants in behavioral health sites approximately 12 months after study entry to learn about employment and related outcomes, (5) individual interviews with up to 6 participants in each site and their case managers. These data will be used to assess the extent to which the programs being evaluated improve participants' employment, earnings, income, behavioral health, and well-being. They will also be used to assess the extent to which individuals in the study receive employment services.

The research team will also collect data from researchers, policy experts, state and local administrators, and program staff to identify potential sites. These data will be collected primarily by telephonic staff interviews using discussion guides.

For the implementation studies, the research team will collect data from program staff to assess program implementation. Information will be collected in consistent ways across sites and, to the extent feasible, will use the same measures and data collection procedures. Data collected from program staff during the study will include the following: (1) Site visit data including staff interviews, (2) interviews with case managers as part of the participant case studies mentioned above, and (3) program staff surveys. These data will be used to measure program implementation and fidelity, factors affecting service delivery, program staff characteristics, and staff time allocation. All impact study sites will include an implementation study. In addition, there will be several descriptive studies of other sites that use some of the implementation instruments to better understand programs serving clients with opioid use and other substance abuse disorders.

Future information collection requests and related Federal Register Notices will describe future data collection efforts for this project.

Respondents: Participants enrolled in the study, program staff, national policy experts and researchers, and state and local administrators.

Annual Burden Estimates
[3 year clearance]
Instrument | Total number of respondents | Annual number of respondents | Number of responses per respondent | Average burden hours per response | Annual burden hours
Baseline information form for participants | 18600 | 6200 | 1 | 0.25 | 1550
Contact update request form | 5520 | 1840 | 1 | 0.1 | 184
6-month follow-up participant interview | 1680 | 560 | 1 | 0.25 | 140
12-month follow-up participant interview | 3840 | 1280 | 1 | 0.5 | 640
Participant case study interview guide | 126 | 42 | 1 | 1.5 | 63
Discussion guide for national policy experts and researchers | 10 | 3 | 1 | 1 | 3
Discussion guide for state and local administrators | 55 | 18 | 1 | 2 | 36
Discussion guide for program staff at potential sites | 72 | 24 | 1 | 2.75 | 66
Program managers, staff, and partner interview guide | 270 | 90 | 1.5 | 1.5 | 203
Program staff case study interview guide | 126 | 42 | 1 | 1 | 42
Program staff survey | 420 | 140 | 1 | 0.5 | 70

Estimated Total Annual Burden Hours: 2,997.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 413 of the Social Security Act, as amended by the FY 2017 Consolidated Appropriations Act, 2017 (Pub. L. 115-31).

Mary B. Jones,
ACF/OPRE Certifying Officer.

[FR Doc. 2019-00414 Filed 1-30-19; 8:45 am]

BILLING CODE 4184-09-P